DEPARTMENT OF TRANSPORTATION

Federal Transit Administration

Limitation on Claims Against Proposed Public Transportation Projects

AGENCY: Federal Transit Administration (FTA), DOT.

ACTION: Notice.

SUMMARY: This notice announces final environmental actions taken by the Federal Transit Administration (FTA) for projects in the following locations: Boise, ID and Houston, TX. The purpose of this notice is to announce publicly the environmental decisions by FTA on the subject projects and to activate the limitation on any claims that may challenge these final environmental actions.

DATES: By this notice, FTA is advising the public of final agency actions subject to Section 139(l) of Title 23, United States Code (U.S.C.). A claim seeking judicial review of FTA actions announced herein for the listed public transportation projects will be barred unless the claim is filed on or before October 6, 2014.

FOR FURTHER INFORMATION CONTACT: Nancy-Ellen Zusman, Assistant Chief Counsel, Office of Chief Counsel, (312) 353-2577 or Terence Plaskon, Environmental Protection Specialist, Office of Human and Natural Environment, (202) 366-0442. FTA is located at 1200 New Jersey Avenue SE., Washington, DC 20590. Office hours are from 9:00 a.m. to 5:30 p.m., Monday through Friday, except Federal holidays.

SUPPLEMENTARY INFORMATION: Notice is hereby given that FTA has taken final agency actions by issuing certain approvals for the public transportation projects listed below. The actions on the projects, as well as the laws under which such actions were taken, are described in the documentation issued in connection with the project to comply with the National Environmental Policy Act (NEPA) and in other documents in the FTA administrative record for the projects. Interested parties may contact either the project sponsor or the relevant FTA Regional Office for more information on the project. Contact information for FTA's Regional Offices may be found at http://www.fta.dot.gov.

This notice applies to all FTA decisions on the listed projects as of the issuance date of this notice and all laws under which such actions were taken, including, but not limited to, NEPA [42 U.S.C. 4321-4375], Section 4(f) of the Department of Transportation Act of 1966 [49 U.S.C. 303], Section 106 of the National Historic Preservation Act [16 U.S.C. 470f], and the Clean Air Act [42 U.S.C. 7401-7671q]. This notice does not, however, alter or extend the limitation period for challenges of project decisions subject to previous notices published in the Federal Register. The projects and actions that are the subject of this notice are:

1. Project name and location: Downtown Boise Multimodal Center, Boise, ID. Project sponsor: Valley Regional Transit. Project description: The proposed project consists primarily of an underground facility with eight bus bays and dedicated entry and exit ramps for buses. The facility would be complemented by four reconfigured bus bays on Main Street, for a total of 12 bus bays. The underground facility is to be built as part of a new office, convention, and retail development on the west side of the U.S. Bank Building near the corner of North 8th Street and Main Street. Final agency actions: No use determination of Section 4(f) resources; Section 106 finding of no historic properties affected; project-level air quality conformity; and Finding of No Significant Impact (FONSI), dated April 23, 2014. Supporting documentation: Environmental Assessment, dated March 2014.

2. Project name and location: Post Oak Boulevard Reconstruction with Dedicated Bus Lanes, Houston, TX. Project sponsor: Uptown Houston District. Project description: The proposed project would reconstruct and make improvements to Post Oak Boulevard from IH 610 to Richmond Avenue. The reconstructed street would retain six lanes for general traffic while accommodating bi-directional bus service operating in dedicated lanes in the expanded median. Improvements would be made to sidewalks, landscape/hardscape, pedestrian lighting, and other pedestrian amenities. Final agency actions: Section 106 finding of no historic properties affected and determination of categorical exclusion. Supporting documentation: Categorical exclusion pursuant to 23 CFR 771.118(d), dated March 26, 2014.

Lucy Garliauskas,
Associate Administrator Planning and Environment.

[FR Doc. 2014-10549 Filed 5-7-14; 8:45 am]

BILLING CODE P